DEPARTMENT OF THE INTERIOR

National Park Service

[NPS-WASO-NAGPRA-NPS0039949; PPWOCRADN0-PCU00RP14.R50000]

Notice of Intended Repatriation: Turtle Bay Exploration Park, Redding, CA

AGENCY: National Park Service, Interior.

ACTION: Notice.

SUMMARY: In accordance with the Native American Graves Protection and Repatriation Act (NAGPRA), Turtle Bay Exploration Park (TBEP) intends to repatriate a certain cultural item that meets the definition of an object of cultural patrimony and that has a cultural affiliation with the Indian Tribes or Native Hawaiian organizations in this notice.

DATES: Repatriation of the cultural item in this notice may occur on or after May 19, 2025.

ADDRESSES: Julia Cronin, Turtle Bay Exploration Park, 844 Sundial Bridge Drive, Redding, CA 96001, telephone (530) 242-3191, email jcronin@turtlebay.org.

SUPPLEMENTARY INFORMATION: This notice is published as part of the National Park Service's administrative responsibilities under NAGPRA. The determinations in this notice are the sole responsibility of Turtle Bay Exploration Park, and additional information on the determinations in this notice, including the results of consultation, can be found in the summary or related records. The National Park Service is not responsible for the determinations in this notice.

Abstract of Information Available

A total of one cultural item has been requested for repatriation. The one object of cultural patrimony is a lumjawi/canoe fashioned of a single log of ponderosa pine by burning and adzing. It has a metal plate on one bow covering a damaged area and bolt and nut with a chain on the opposite bow.

The lumjawi/canoe was found on Rising River Ranch which was purchased by Bing and Kathryn Crosby in 1959 and managed by Leonard William Meyer Jr. In 1978, Mr. Crosby passed away and Rising River Ranch was sold. In April 1982, Mr. Meyer brought the canoe to the Redding Museum and Art Center (TBEP's predecessor institution) and it was accessioned into the collection in May 1982.

Rising River is in Shasta County of northern California. Rising River feeds into Hat Creek approximately ten miles east of the town of Cassel and in part of what is considered the Pit River Drainage, which has been Ajumawi territory since time immemorial. The Ajumawi Band is one of the eleven autonomous bands of the Pit River Tribe (includes XL Ranch, Big Bend, Likely, Lookout, Montgomery Creek, and Roaring Creek Rancherias).

Museum documentation indicates the lumjawi/canoe was stored outside without protection until it arrived at the Museum. Oral history suggests it was serviceable at Rising River Lake in the late 1920s, but in the 1940s, it was observed listing to one side and partially filled with silt. It was taken out of the water and stored on land until the early 1970s when it was placed on blocks to prevent insect infestation.

Upon arrival to the Museum, the item was found to be infested with moss, lichen, fungi, and various insects, along with significant staining and deterioration. In order to exhibit the canoe, cleaning and conservation was required. The treatments were completed by professional conservators Dr. Arno Schniewind and Dale Paul Kronkright. They used hand dental tools to remove lichen and algae, and applied airbrasive cleaning to the exterior. Airbrasive cleaning is a method of dry cleaning mechanically by means of a grit spraying unit. Powdered abrasives can include calcium magnesium carbonate, sodium bicarbonate, glass beads, and several grades of aluminum oxide. Silicon carbide powder is used occasionally for very hard corrosion products on metal. The specific powdered abrasives used were not documented. Samples of the wood were removed from the artifact and sent to a lab to determine the best consolidant.

Due to its size, material, and fragility, the lumjawi/canoe was placed in a specially constructed tank for consolidation treatment. A recirculating pump and spray outlets allowed for continuous diffusion of a 13% solution of AYAF in methanol into the wood. AYAF is a polyvinyl acetate resin used for conservation. The canoe was put on display in the Museum in October 1982 and remains on display to this day. The methanol used during treatment has since evaporated, and AYAF is not considered hazardous.

Determinations

Turtle Bay Exploration Park has determined that:

• The one object of cultural patrimony described in this notice has ongoing historical, traditional, or cultural importance central to the Native group, including any constituent sub-group (such as a band, clan, lineage, ceremonial society, or other subdivision), according to the Native American traditional knowledge of an Indian Tribe or Native Hawaiian organization.

• There is a reasonable connection between the cultural item described in this notice and the Pit River Tribe, California (includes XL Ranch, Big Bend, Likely, Lookout, Montgomery Creek, and Roaring Creek Rancherias).

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after May 19, 2025. If competing requests for repatriation are received, Turtle Bay Exploration Park must determine the most appropriate requestor prior to repatriation. Requests for joint repatriation of the cultural item are considered a single request and not competing requests. Turtle Bay Exploration Park is responsible for sending a copy of this notice to the Indian Tribes and Native Hawaiian organizations identified in this notice and to any other consulting parties.

Authority: Native American Graves Protection and Repatriation Act, 25 U.S.C. 3004 and the implementing regulations, 43 CFR 10.9.

Dated: April 8, 2025
Melanie O'Brien,
Manager, National NAGPRA Program.

[FR Doc. 2025-06639 Filed 4-17-25; 8:45 am]

BILLING CODE 4312-52-P